DEPARTMENT OF COMMERCE

National Oceanic and Atmospheric Administration

Proposed Information Collection; Comment Request; StormReady, TsunamiReady, StormReady/TsunamiReady, and StormReady Supporter Application Forms

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before May 25, 2018.

ADDRESSES: Direct all written comments to Jennifer Jessup, Departmental Paperwork Clearance Officer, Department of Commerce, Room 6616, 14th and Constitution Avenue NW, Washington, DC 20230 (or via the internet at pracomments@doc.gov).

FOR FURTHER INFORMATION CONTACT: Requests for additional information or copies of the information collection instrument and instructions should be directed to Rocky Lopes, (301) 427-9380 or Rocky.Lopes@noaa.gov.

SUPPLEMENTARY INFORMATION:

I. Abstract

This request is for extension of a currently approved information collection.

NOAA's National Weather Service is extending its “StormReady, TsunamiReady, StormReady/TsunamiReady, StormReady Supporter and TsunamiReady Supporter Application Forms”. StormReady and TsunamiReady are voluntary programs offered as a means of providing guidance and incentive to officials interested in improving their respective hazardous weather operations. The StormReady Application Form, Tsunami-Ready Application Form and TsunamiReady/StormReady Application Form will be used by localities to apply for initial StormReady or TsunamiReady and StormReady recognition and renewal of that recognition every six years. The government will use the information collected to determine whether a community has met all of the criteria to receive StormReady and/or TsunamiReady recognition. Businesses, schools, non profit organizations and other non-governmental entities often establish severe weather safety plans and actively promote severe weather safety awareness activities. Many of these entities do not have the resources necessary to fulfill all the eligibility requirements to achieve the full StormReady, StormReady/TsunamiReady or StormReady/Tsunami recognition. Therefore, the NWS established the StormReady and TsunamiReady Supporter programs to recognize entities that promote the principles and guidelines of the full programs, but do not meet the eligibility requirements for full recognition.

II. Method of Collection

Applications may be faxed, mailed or emailed.

III. Data

OMB Control Number: 0648-0419.

Form Number(s): None.

Type of Review: Regular submission (extension of a currently approved information collection).

Affected Public: Business or other for-profit organizations; not-for-profit institutions.

Estimated Number of Respondents: 305.

Estimated Time per Response: Initial applications, 2 hours; renewal applications, 1 hour.

Estimated Total Annual Burden Hours: 565.

Estimated Total Annual Cost to Public: $150 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 21, 2018.
Sarah Brabson,
NOAA PRA Clearance Officer.

[FR Doc. 2018-06044 Filed 3-23-18; 8:45 am]

BILLING CODE 3510-KE-P